DEPARTMENT OF VETERANS AFFAIRS

[OMB Control No. 2900-0074]

Proposed Information Collection Activity: Proposed Collection; Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on the information needed to determine eligibility for continued educational assistance for veterans, individuals on active duty, and reservists who change their programs of education or places of training.

DATES: Written comments and recommendations on the proposed collection of information should be received on or before August 14, 2000.

ADDRESSES: Submit written comments on the collection of information to Nancy J. Kessinger, Veterans Benefits Administration (20S52), Department of Veterans Affairs, 810 Vermont Avenue, NW, Washington, DC 20420. Please refer to “OMB Control No. 2900-0074” in any correspondence.

FOR FURTHER INFORMATION CONTACT: Nancy J. Kessinger at (202) 273-7079 or FAX (202) 275-5947.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Request for Change of VA Education Program or Place of Training For Veterans, Servicepersons, and members of the Selected Reserve, VA Form 22-1995.

OMB Control Number: 2900-0074.

Type of Review: Revision of a currently approved collection.

Abstract: VA pays educational benefits to eligible veterans and persons on active duty, and to persons in the Selected Reserve. Each veteran, person on active duty, or person in the Selected Reserve must be pursuing an approved program of training to be eligible for benefits. The eligible student must complete VA Form 22-1995 to identify and request approval for a supplementary educational objective or place of training. VA uses the information to determine continued eligibility for educational benefits, and to monitor the number of times a veteran, person on active duty, or person in the Selected Reserve has changed his or her educational objectives.

Affected Public: Individuals or households.

Estimated Annual Burden: 24,060 hours.

Estimated Average Burden Per Respondent: 12 minutes.

Frequency of Response: On occasion.

Estimated Annual Responses: 120,300.

Estimated Number of Respondents: 120,300.

Dated: June 2, 2000.
By direction of the Secretary:
Donald L. Neilson,
Director, Information Management Service.

[FR Doc. 00-15069 Filed 6-14-00; 8:45 am]

BILLING CODE 8320-01-P